DEPARTMENT OF DEFENSE

Office of the Secretary

Military Health Risk Management Demonstration Project

AGENCY: Office of the Assistant Secretary of Defense for Health Affairs/TRICARE Management Activity, Department of Defense.

ACTION: Notice of a Military Health Risk Management demonstration project.

SUMMARY: This notice is to advise interested parties of a Military Health System (MHS) demonstration project entitled “Military Health Risk Management Demonstration Project”. This demonstration project, which will be available for participation by select non-Medicare eligible, retired TRICARE-eligible beneficiaries, and their family members, is designed to evaluate the efficacy of providing incentives to encourage healthy behaviors on the part of these MHS beneficiaries.

DATES: Effective Date: This demonstration will be effective from October 1, 2009, until February 28, 2012.

FOR FURTHER INFORMATION CONTACT: Dr. Barry Cohen, Director of Healthcare Operations—TRICARE Management Activity, 5111 Leesburg Pike, Suite 810, Falls Church, VA 22041-3206; telephone (703) 681-7515.

SUPPLEMENTARY INFORMATION:

A. Background

Health Risk Management involves utilizing a self-reported health risk assessment to identify areas where TRICARE beneficiaries may be at risk to develop certain chronic illnesses. The questionnaire covers a wide range of lifestyle behaviors and health issues. In addition, physiological and biometric measures such as blood pressure, glucose level, lipids, nicotine use, and weight are also considered to aid in determining the overall level of risk for chronic disease. This demonstration project will assess the effects of providing incentives along with wellness programs and healthy behaviors and lifestyle practices among non-Medicare-eligible retired beneficiaries and their family members who are enrolled in TRICARE Prime.

B. National Defense Authorization Act (NDAA) for Fiscal Year 2009 (FY09) Military Health Risk Management Directive

Section 712 of the NDAA for FY09 requires the Department to develop a wellness assessment to be offered to beneficiaries enrolled in the demonstration project. The wellness assessment will incorporate nationally recognized standards for health and healthy behaviors, will be offered to determine a baseline assessment, and will be repeated at appropriate intervals. The wellness assessment will include a self-reported health risk assessment, physiological, and biometric measures; including at least blood pressure, glucose level, lipids, nicotine use and weight. Non-Medicare-eligible retired beneficiaries of the MHS and their dependents who are enrolled in TRICARE Prime and who reside in the demonstration project service areas will be offered the opportunity to enroll in the demonstration project. The demonstration project will be conducted in at least three geographic areas within the United States where TRICARE Prime is offered. The area covered by the project will be referred to as the demonstration project service area. Programs will be developed to assist enrollees to improve healthy behaviors, as identified by the wellness assessment. For the purpose of conducting the demonstration project, monetary and/or nonmonetary incentives will be offered to enrollees to encourage participation in the demonstration project.

C. Description of Demonstration Project

The Military Health Risk Management demonstration project will be conducted to evaluate whether monetary incentives in conjunction with wellness programs will encourage healthy behaviors among non-Medicare-eligible retired beneficiaries and their family members who are enrolled in TRICARE Prime and reside in the demonstration project service areas. The duration of the project will be approximately 3 years. There will be a monetary incentive award to enrollees for full participation in this project of an amount equivalent to 50 percent of the annual TRICARE Prime enrollment fee ($230/family or $115/individual).

For the purpose of this study, at least one demonstration project service area will encompass a military treatment facility (MTF), and the others will encompass areas supported exclusively by purchased care. The National Naval Medical Center, Medical Homes Program, Bethesda, MD, has been selected as the MTF demonstration project service area; the Designated Provider Programs at Martin's Point, Portland, ME, and CHRISTUS Health, Houston, TX, have been selected as the purchased care demonstration project service areas.

D. Implementation

Each site will be responsible for identifying a cohort of retired beneficiaries and their family members who are enrolled in TRICARE Prime and are non-Medicare-eligible to participate in the demonstration. Following the enrollment period, the site will maintain the demographic, clinical, and other data required to evaluate the effectiveness of the demonstration. The service area sites will use a self-reported Health Risk Assessment (HRA) designed to screen and identify the participants' health risk factors and provide targeted interventions that help prevent, manage, and improve chronic conditions. They will perform all of the study participants' physiological and biometric measures, including at least blood pressure, glucose levels, lipids, nicotine use, and weight. The service area sites will schedule follow-up visits, encourage participants to take advantage of available online educational Web sites, and enroll in established wellness programs. They will also direct participants to retake the HRA/biometrics annually to reassess health behaviors and outcomes. A toll-free phone line will be available to answer questions regarding enrollment and monetary incentives from demonstration participants.

Dated: September 25, 2009.
Patricia L. Toppings,
OSD Federal Register Liaison Officer, Department of Defense.

[FR Doc. E9-23741 Filed 9-30-09; 8:45 am]

BILLING CODE 5001-06-P